ENVIRONMENTAL PROTECTION AGENCY

[EPA-HQ-OGC-2007-0982; FRL-8897-5]

Agency Information Collection Activities; Submission to OMB for Review and Approval; Comment Request; Environmental and Economic Effects of Environmental Conflict Resolution at EPA; EPA ICR No. 2306.01 OMB Control No. 2090-NEW

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request for a new collection. The ICR, which is abstracted below, describes the nature of the information collection and its estimated burden and cost.

DATES: Additional comments may be submitted on or before May 27, 2009.

ADDRESSES: Submit your comments, referencing Docket ID No. EPA-HQ-OGC-2007-0982, to (1) EPA online using http://www.regulations.gov (our preferred method), by e-mail to oei.docket@epa.gov, or by mail to: EPA Docket Center, Environmental Protection Agency, Mailcode: 2822T, 1200 Pennsylvania Ave., NW., Washington, DC 20460 and (2) OMB by mail to: Office of Information and Regulatory Affairs, Office of Management and Budget (OMB), Attention: Desk Officer for EPA, 725 17th Street, NW., Washington, DC 20503.

FOR FURTHER INFORMATION CONTACT: William E. Hall, Ph.D., 2388A, Environmental Protection Agency, 1200 Pennsylvania Ave., NW., Washington, DC 20460; telephone number: (202) 564-0214; fax number: (202) 501-1715; e-mail address: hall.william@epa.gov.

SUPPLEMENTARY INFORMATION: EPA has submitted the following ICR to OMB for review and approval according to the procedures prescribed in 5 CFR 1320.12. On October 7, 2008 (73 FR 58580), EPA sought comments on this ICR pursuant to 5 CFR 1320.8(d). EPA received four comments during the comment period, which are addressed in the ICR. Any additional comments on this ICR should be submitted to EPA and OMB within 30 days of this notice.

EPA has established a public docket for this ICR under Docket ID No. EPA-HQ-OGC-2007-0982, which is available for online viewing at http://www.regulations.gov, or in-person viewing at the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or on paper, will be made available for public viewing at http://www.regulations.gov as EPA receives them and without change, unless the comment contains copyrighted material, confidential business information (CBI), or other information whose public disclosure is restricted by statute. For further information about the electronic docket, go to http://www.regulations.gov.

Title: Environmental and Economic Effects of Environmental Conflict Resolution at EPA.

ICR Numbers: EPA ICR No. 2306.01, OMB Control No. 2090-NEW.

ICR Status: This ICR is for a new information collection. An Agency may not conduct or sponsor, and a person is not required to respond to, a collection of information, unless it displays a currently valid OMB control number. The OMB control numbers for EPA's regulations in title 40 of the CFR, after appearing in the Federal Register when approved, are listed in 40 CFR part 9, and displayed either by publication in the Federal Register or by other appropriate means, such as on the related collection instrument or form, if applicable. The display of OMB control numbers in certain EPA regulations is consolidated in 40 CFR part 9.

Abstract: This information collection will enable EPA's Conflict Prevention and Resolution Center to evaluate the environmental and economic effects of agreements reached through the Agency's Environmental Conflict Resolution (ECR) process compared to decisions that might have been achieved through other decision-making processes (e.g., litigation). ECR is third-party assisted conflict resolution and collaborative problem solving in the context of environmental, public lands, or natural resources issues or conflicts, including matters related to energy, transportation, and land use.

Information will be collected from representatives of organizations that participated in ECR decision-making processes sponsored by or involving EPA in a range of environmental cases. For purposes of comparison, information will also be collected from representatives of organizations that were involved in non-ECR (i.e., without the assistance of a third party) decision making processes that otherwise have similar characteristics to the ECR cases (e.g., similar environmental issues, similar geography). Case participants will complete a survey instrument with questions concerning the environmental effects, implementation of the agreement or decision including resources required, relations with other parties to the agreement, reasons for joining an ECR process or participating in a non-ECR decision making process, costs of the process, and quality of information held by parties when reaching agreement or making the decision.

This information collection will help satisfy the joint OMB and President's Council on Environmental Quality (CEQ) Memorandum on ECR (November 2005, available at http://nepa.gov/nepa/regs/OMB_CEQ_Joint_Statement.pdf) that directed agencies, among other things, to “recognize and support needed upfront investments in collaborative processes and conflict resolution and demonstrate those savings in performance and accountability measures to maintain a budget neutral environment.” Data collected will be used to analyze and assess EPA's ECR procedures, to ensure program activities are executed and managed in a cost-effective manner, and provide information for Agency managers and staff to use when deciding whether to use ECR, consistent with the principles of the Government Performance and Results Act and the President's reform agenda.

This information collection will be voluntary for all respondents. As required by 5 U.S.C. 524(h), the questionnaires for parties in dispute resolution proceedings covered by the Administrative Dispute Resolution Act of 1996 will be carefully designed and administered to ensure that the identity of the parties and the specific issues in controversy will remain confidential. The questionnaires for matters that did not involve dispute resolution proceedings will allow respondents to claim that their responses contain Confidential Business Information (CBI). The Agency will protect questionnaires subject to CBI claims from disclosure to the extent authorized by 2 CFR Subpart B, Confidentiality of Business Information.

Burden Statement: The annual public reporting and recordkeeping burden for this collection of information is estimated to average 0.5 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Various agencies and levels of government, industry, and environmental advocacy groups who, with the assistance of a neutral third party, negotiated the agreement reached in an ECR case, as well as participants in non-ECR cases.

Estimated Number of Respondents: 81.

Frequency of Response: Once.

Estimated Total Annual Hour Burden: 41.

Estimated Total Annual Cost: $4,994.00, which includes $0 annualized capital or O&M costs.

Changes in the Estimates: There is no change in burden because this is a new ICR.

Dated: April 22, 2009.
John Moses,
Acting Director, Collection Strategies Division.

[FR Doc. E9-9579 Filed 4-24-09; 8:45 am]

BILLING CODE 6560-50-P